DEPARTMENT OF COMMERCE

Economics and Statistics Administration

Performance Review Board Membership

SUMMARY: Below is a listing of individuals who are eligible to serve on the Performance Review Board in accordance with the Economics and Statistics Administration Senior Executive Service (SES) Performance Appraisal System.

Hermann Habermann

Cynthia Z.F. Clark

Theodore A. Johnson

Richard W. Swartz

Marvin D. Raines

Gloria A. Gutierrez

Frederick T. Knickerbocker

Thomas L. Mesenbourg

Preston J. Waite

Arnold A. Jackson

Nancy M. Gordon

William G. Bostic, Jr.

Chester E. Bowie

John F. Long

C. Harvey Monk

Walter C. Odom, Jr.

Judith N. Petty

Alan R. Tupek

Carol M. Van Horn

Daniel H. Weinberg

Tommy Wright

J. Steven Landefeld

Rosemary D. Marcuss

Ralph H. Kozlow

Brent R. Moulton

Sumiye O. Okubo

Suzette C. Kern

Dennis J. Fixler

Barbara M. Fraumeni

John W. Ruser

James K. White

Katherine Wallman

FOR FURTHER INFORMATION CONTACT: Nancy Osborn, 301-763-3727.

Dated: July 3, 2003.
James K. White,
Associate Under Secretary for Management, Chair, Performance Review Board.

[FR Doc. 03-17717 Filed 7-11-03; 8:45 am]

BILLING CODE 3510-BS-M